DEPARTMENT OF COMMERCE

Economics and Statistics Administration

Decennial Census Advisory Committee

AGENCY: Economics and Statistics Administration, Department of Commerce.

ACTION: Notice of public meeting.

SUMMARY: Pursuant to the Federal Advisory Committee Act (Public Law 92-463, as amended by Pub. L. 94-409, Pub. L. 96-523, and Pub. L. 97-375), we are giving notice of a meeting of the Decennial Census Advisory Committee. The Committee will give a debriefing regarding Census 2000 programs and operations, as well as address issues related to the 2010 census effort, including the American Community Survey, and other related decennial programs. Last minute changes to the schedule are possible, which could prevent us from giving advance notice.

DATES: June 21-22, 2001. On Thursday, June 21, the meeting will begin at 8:30 a.m. and end at approximately 5:15 p.m. On Friday, June 22, the meeting will begin at 8:30 a.m. and adjourn at approximately 3 p.m.

ADDRESSES: The meeting will be held at the Sheraton Reston Hotel, 11810 Sunrise Valley Drive, Reston, VA 20191.

FOR FURTHER INFORMATION CONTACT: Jeri Green, Committee Liaison Officer, Department of Commerce, U.S. Census Bureau, Room 3627, Federal Building 3, Washington, DC 20233, telephone 301-457-2075, TDD 301-457-2540.

SUPPLEMENTARY INFORMATION: The Decennial Census Advisory Committee is composed of a Chair, Vice-Chair, and up to 40 member organizations, all appointed by the Secretary of Commerce. The Committee considers the goals of the decennial census and users' needs for information provided by that census. The Committee provides an outside user perspective about how research and design plans for the 2010 decennial census, and the development of the American Community Survey and other related programs, will realize those goals and satisfy those needs. The members of the Advisory Committee draw on their experience with Census 2000 planning and operational processes, results of research studies, test censuses, and results of the Census 2000 Evaluation Program, to provide input on the design and related operations of the 2010 decennial census, the American Community Survey, and other related decennial programs.

A brief period will be set aside at the meeting for public comment. However, individuals with extensive statements for the record must submit them in writing to the Census Bureau Committee Liaison Officer named above at least three working days prior to the meeting. Seating is available to the public on a first-come, first-serve basis.

The meeting is physically accessible to people with disabilities. Requests for sign language interpretation or other auxiliary aids should be directed to the Census Bureau Committee Liaison Officer.

Dated: May 11, 2001.
Lee Price,
Acting Under Secretary for Economic Affairs, Economics and Statistics Administration.

[FR Doc. 01-12381 Filed 5-15-01; 8:45 am]

BILLING CODE 3510-07-P